DEPARTMENT OF AGRICULTURE

Agricultural Marketing Service

7 CFR Parts 900 and 1200

[Doc. No. AMS-SC-17-0081]

RIN 0581-AD76

Rules of Practice and Procedures To Formulate or Amend a Marketing Agreement or a Marketing Order, or Certain Research and Promotion Orders; Correction

AGENCY: Agricultural Marketing Service, USDA.

ACTION: Final rule; correction.

SUMMARY: This document contains a correction to the final rule which was published on December 11, 2017. In the final rule, the Regulatory Information Number (RIN) appears as RIN 0581-AD74. This number is incorrect. The correct number is 0581-AD76. This document corrects the final rule.

DATES: Effective December 20, 2017.

FOR FURTHER INFORMATION CONTACT: William Richmond, Acting Chief of Staff, AMS, 1400 Independence Avenue SW, Washington, DC 20250, (202) 720-5115.

SUPPLEMENTARY INFORMATION: In final rule FR Doc. 2017-26718, beginning at page 58097 of the issue December 11, 2017, make the following corrections:

On page 58097, in the first column in the heading, correct the RIN to read “0581-AD76”.

Dated: December 15, 2017.
Bruce Summers,
Acting Administrator, Agricultural Marketing Service.

[FR Doc. 2017-27401 Filed 12-19-17; 8:45 am]

BILLING CODE 3410-02-P